DEPARTMENT OF HEALTH AND HUMAN SERVICES

Office of the Secretary

Delegation of Authorities

Notice is hereby given that I have delegated to the Administrator, Centers for Medicare & Medicaid Services (CMS) with authority to re-delegate the authorities vested in me as the Secretary of Health and Human Services pursuant to the Inflation Reduction Act (IRA, Pub. L. No: 117-169). The authority delegated is delineated in the following IRA provisions Sections 11001-11002: Drug Price Negotiation, 11101: Part B Inflation Rebate, and 11102: Part D Inflation Rebate. This delegation of authority would support the Federal Government's efforts under the IRA to reduce prices for select high-cost drugs under Medicare Parts B and D (sections 11001-11004) and curb drug price increases to below the rate of inflation (sections 11101 and 11102). Without this delegation of authority, CMS would not be able to fully administer, implement, and operate these programs and initiatives consistent with the IRA.

I hereby affirm and ratify any actions taken by the Administrator, CMS, or other CMS officials, which involve the exercise of these authorities prior to the effective date of this delegation.

This delegation of authority is effective immediately.

This delegation of authority may be re-delegated.

This delegation of authority does not impact any other delegations of authority within CMS or in any other Department of Health and Human Services Operating Division or Staff Division.

Dated: January 5, 2023.
Xavier Becerra,
Secretary.

[FR Doc. 2023-00296 Filed 1-6-23; 4:15 pm]

BILLING CODE 4150-03-P